COMMITTEE FOR THE IMPLEMENTATION OF TEXTILE AGREEMENTS

Announcement of Import Restraint Limits for Certain Cotton, Wool, Man-Made Fiber, Silk Blend and Other Vegetable Fiber Textile Products Produced or Manufactured in Bahrain; Correction

December 20, 2001

In the letter to the Commissioner of Customs published in the Federal Register on November 14, 2001 (66 FR 57042), on page 57043, 1st column, in the table listing import restraint limits, categories 845 and 846 were inadvertently omitted from the list of categories covered under Group I. A letter has been sent to the Commissioner of Customs to add these categories to the categories listed under Group I.

D. Michael Hutchinson,
Acting Chairman, Committee for the Implementation of Textile Agreements.

[FR Doc. 01-31889 Filed 12-27-01; 8:45 am]

BILLING CODE 3510-DR-S